DEPARTMENT OF ENERGY

Federal Energy Regulatory Commission

[Docket No. EL04-99-001]

Mississippi Delta Energy Agency, Clarksdale Public Utilities Commission Complainant v. Entergy Services, Inc., Entergy Operating Companies Respondent; Notice of Filing

August 6, 2007.

Take notice that on July 26, 2007, Entergy Services, Inc., as agent for Entergy Arkansas, Inc., Entergy Gulf States, Inc., Entergy Louisiana, LLC, Entergy Mississippi, Inc., and Entergy New Orleans, Inc. filed a refund report in compliance with the Federal Energy Regulatory Commission's Order issued on June 11, 2007, Mississippi Delta Energy Agency and Clarksdale Public Utilities v. Entergy Services, Inc., and Entergy Operating Companies, 119 FERC ¶ 61,269 (2007).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 16, 2007.

Kimberly D. Bose,
Secretary.

[FR Doc. E7-15639 Filed 8-9-07; 8:45 am]

BILLING CODE 6717-01-P